DEPARTMENT OF ENERGY

Federal Energy Regulatory Commission

[Docket No. AD08-11-000]

Ensuring Dam Safety in the United States; Supplemental Notice of Technical Conference

November 24, 2008.

As announced in the “Notice of Technical Conference” issued on October 29, 2008, a technical conference will be held on December 5, 2008, from 9 a.m. to 1 p.m. (EST) in the Commission Meeting Room at the Federal Energy Regulatory Commission, 888 First Street, NE., Washington, DC 20426. The conference will be open for the public to attend and advance registration is not required. Members of the Commission will attend and participate in the conference.

The purpose of this conference is to explore issues related to dam safety with federal, state and industry dam safety representatives. Specifically, the participants will discuss the major components of the FERC Dam Safety Program as well as current state and industry assistance efforts. They will also explore the challenges facing state dam safety offices to identify needed technical and resource assistance. The agenda for this conference is attached.

This conference will be transcribed. Transcripts of the conference will be immediately available for a fee from Ace-Federal Reporters, Inc. (202-347-3700 or 1-800-336-6646). A free Webcast of the conference is also available through http://www.ferc.gov. Anyone with Internet access who desires to listen to this event can do so by navigating to http://www.ferc.gov's Calendar of Events and locating this event in the Calendar. The event will contain a link to its Webcast. The Capitol Connection provides technical support for the Webcasts and offers the option of listening to the meeting via phone-bridge for a fee. If you have any questions, visit http://www.CapitolConnection.org or call 703-993-3100. The transcripts will be available for free on the Commission's eLibrary system and on the Calendar of Events approximately one week after the conference.

Commission conferences are accessible under section 508 of the Rehabilitation Act of 1973. For accessibility accommodations, please send an e-mail to accessibility@ferc.gov or call toll free 1-866-208-3372 (voice) or (202) 208-1659 (TTY), or send a FAX to 202-208-2106 with the required accommodations.

For more information about this conference, please contact: Natalie Leech, (202) 502-6396, natalie.leech@ferc.gov or Sarah McKinley, (202) 502-8368, sarah.mckinley@ferc.gov.

Kimberly D. Bose,
Secretary.

[FR Doc. E8-28490 Filed 12-1-08; 8:45 am]

BILLING CODE 6717-01-P